FEDERAL RETIREMENT THRIFT INVESTMENT BOARD

Notice of Meeting of the Employee Thrift Advisory Council

DATES: November 6, 2025 at 10:00 a.m.

ADDRESSES: Telephonic. Dial-in (listen only) information: Number: 1-202-599-1426, Code: 588 229 53#; or via web: https://www.frtib.gov/.

FOR FURTHER INFORMATION CONTACT: James L. Kaplan, Director, Office of External Affairs, (202) 864-7150.

SUPPLEMENTARY INFORMATION:

ETAC Meeting Agenda

1. Approval of the minutes of the May 28, 2025, Joint Board/ETAC Meeting

2. Executive Director Remarks

3. Office of Investments Report

4. Office of Participant Experience Report

5. Office of Planning and Risk Report

6. Office of External Affairs Report

7. New Business

Written Statements: Pursuant to 41 CFR 102-3.105(j) and 102-3.140 and section 10(a)(3) of the Federal Advisory Committee Act, interested parties may submit written statements in response to the stated agenda of the meeting, or to the Employee Thrift Advisory Council (ETAC), in general. Individuals may submit their comments to ETACComments@frtib.gov. Written comments or statements received less than 5 days before ETAC's meeting may not be provided to the Committee until its next meeting.

Authority: 5 U.S.C. 552b(e)(1).

Dated: October 17, 2025.
Dharmesh Vashee,
General Counsel, Federal Retirement Thrift Investment Board.

[FR Doc. 2025-19610 Filed 10-20-25; 8:45 am]

BILLING CODE: P